DEPARTMENT OF DEFENSE

Department of Navy

Notice of Cancellation of Meeting of Marine Corps University Board of Visitors

AGENCY: Marine Corps University, DOD.

ACTION: Notice.

SUMMARY: This notice cancels the public meeting of the Marine Corps University Board of Visitors, due to lack of quorum.

DATES: The cancelled meeting was scheduled to take place Thursday, September 14, 2017, from 9:00 a.m. to 4:30 p.m. and Friday, September 15, 2017, from 8:00 a.m. to 2:30 p.m. Eastern Time Zone.

FOR FURTHER INFORMATION CONTACT: Dr. Kimberly Florich, Director of Faculty Development and Outreach, Marine Corps University Board of Visitors, 2076 South Street, Quantico, Virginia 22134; by telephone at 703-432-4682; email: Kimberly.florich@usmcu.edu.

Dated: September 26, 2017.
A.M. Nichols,
Lieutenant Commander, Judge Advocate General's Corps, U.S. Navy, Federal Register Liaison Officer.

[FR Doc. 2017-21110 Filed 9-29-17; 8:45 am]

BILLING CODE 3810-FF-P